NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before July 28, 2005. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means (Note the new address for requesting schedules using e-mail): Mail: NARA (NWML), 8601 Adelphi Road, College Park, MD 20740-6001. E-mail: requestschedule@nara.gov. FAX: 301-837-3698.

Requesters must cite the control number, which appears in parentheses after the name of the agency which submitted the schedule, and must provide a mailing address. Those who desire appraisal reports should so indicate in their request.

FOR FURTHER INFORMATION CONTACT: Paul M. Wester, Jr., Director, Life Cycle Management Division (NWML), National Archives and Records Administration, 8601 Adelphi Road, College Park, MD 20740-6001. Telephone: 301-837-3120. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending (Note the new address for requesting schedules using e-mail)

1. Department of Homeland Security, Transportation Security Administration (N1-560-04-15, 8 items, 8 temporary items). Records accumulated by the Office of Credentialing relating to employee photographic identification, employee and applicant background investigations, and policies regarding background investigations of U.S. transportation workers. Also included are electronic copies of records created using electronic mail and word processing.

2. Department of Transportation, Federal Aviation Administration (N1-237-05-02, 6 items, 4 temporary items). Inputs, outputs, and personal identifiers associated with an electronic information system which is used to collect data about aviation accidents and incidents in the United States. Proposed for permanent retention are master files (excluding pilot personal identifiers) and the system documentation.

3. Department of the Treasury, Treasury Inspector General for Tax Administration (N1-56-05-2, 3 items, 3 temporary items). Records of the Chief Counsel relating to the disclosure or referral of documents to other Government agencies for prosecutorial purposes or in conjunction with judicial or administrative proceedings. Also included are electronic copies of records created using electronic mail and word processing.

4. Broadcasting Board of Governors, Office of Public Affairs (N1-517-05-1, 3 items, 3 temporary items). News leaflets created from various public sources. Also included are electronic copies of records created using electronic mail and word processing.

5. National Aeronautics and Space Administration, Agency Headquarters (N1-255-04-2, 2 items, 2 temporary items). Paper and electronic records relating to the agency's export control program, including such records as export clearance documentation, audit reports, export licensing data, and logs of export control activities. Electronic copies of records created using electronic mail and word processing are also included.

6. Small Business Administration, Office of the Chief Information Officer, Denver Finance Center (N1-309-05-1, 5 items, 5 temporary items). Inputs, master files, documentation, backups, and electronic mail and word processing copies associated with an electronic system used to maintain summary information concerning disbursements.

7. Small Business Administration, Office of the Chief Information Officer, Denver Finance Center (N1-309-05-2, 5 items, 5 temporary items). Inputs, master files, documentation, backups, and electronic mail and word processing copies associated with an electronic system used to warehouse summary information concerning inter-agency transfers of funds.

8. Small Business Administration, Office of the Chief Financial Officer, Denver Finance Center (N1-309-05-3, 5 items, 5 temporary items). Inputs, master files, documentation, backups, and electronic mail and word processing copies associated with an electronic system used to warehouse summary information concerning collections.

9. Small Business Administration, Office of the Chief Financial Officer, Denver Finance Center (N1-309-05-4, 5 items, 5 temporary items). Outputs, master files, documentation, backups, and electronic mail and word processing copies associated with an electronic system used in connection with reconciled statements of cash activity.

10. Small Business Administration, Office of the Chief Information Officer, Denver Finance Center (N1-309-05-5, 4 items, 4 temporary items). Master files, documentation, backups, and electronic mail and word processing copies associated with an electronic system used to support general ledger reconciliations.

11. Small Business Administration, Agency-wide (N1-309-05-6, 15 items, 15 temporary items). Inputs, outputs, master files, documentation, backups, and electronic mail and word processing copies associated with an electronic system used to maintain general ledgers and create financial statements and reports.

12. Social Security Administration, Office of Disability and Income Security Programs (N1-47-05-2, 14 items, 14 temporary items). Case files and other records relating to Medicare claims. Also included are electronic copies of records created using electronic mail and word processing. This schedule authorizes the agency to apply the proposed disposition instructions to any recordkeeping medium.

Dated: June 6, 2005.
Michael J. Kurtz,
Assistant Archivist for Records Services—Washington, DC.

[FR Doc. 05-11621 Filed 6-10-05; 8:45 am]

BILLING CODE 7515-01-U